DEPARTMENT OF COMMERCE

National Telecommunications and Information Administration

Membership of the National Telecommunications and Information Administration's Performance Review Board

AGENCY: National Telecommunications and Information Administration, Department of Commerce.

ACTION: REVISED—Notice of Membership on the National Telecommunications and Information Administration's Performance Review Board Membership.

SUMMARY: In accordance with 5 U.S.C. 4314(c)(4), the National Telecommunications and Information Administration (NTIA), Department of Commerce (DOC), announce the appointment of those individuals who have been selected to serve as members of NTIA's Performance Review Board. The Performance Review Board is responsible for (1) reviewing performance appraisals and rating of Senior Executive Service (SES) members and (2) making recommendations to the appointing authority on other performance management issues, such as pay adjustments, bonuses and Presidential Rank Awards for SES members. The appointment of these members to the Performance Review Board will be for a period of twenty-four (24) months.

DATES: The period of appointment for those individuals selected for NTIA's Performance Review Board begins on October 25, 2011.

FOR FURTHER INFORMATION CONTACT: Ruthie B. Stewart, Department of Commerce Human Resources Operations Center (DOCHROC), Office of Staffing, Recruitment, and Classification/Executive Resources Operations, 14th and Constitution Avenue, NW., Room 7419, Washington, DC 20230, at (202) 482-3130.

SUPPLEMENTARY INFORMATION: In accordance with 5 U.S.C. 4314(c)(4), the National Telecommunications and Information Administration (NTIA), Department of Commerce (DOC), announce the appointment of those individuals who have been selected to serve as members of NTIA's Performance Review Board. The Performance Review Board is responsible for (1) reviewing performance appraisals and rating of Senior Executive Service (SES) members and (2) making recommendations to the appointing authority on other performance management issues, such as pay adjustments, bonuses and Presidential Rank Awards for SES members. The appointment of these members to the Performance Review Board will be for a period of twenty-four (24) months.

DATES: The period of appointment for those individuals selected for NTIA's Performance Review Board begins on October 25, 2011. The name, position title, and type of appointment of each member of NTIA's Performance Review Board are set forth below by organization:

Department of Commerce, International Trade Administration (ITA)

Renee A. Macklin, Chief Information Officer, ITA, Career SES.

Department of Commerce, National Telecommunications and Information Administration

Fiona M. Alexander, Associate Administrator, Office of International Affairs, Career SES, (New Member).

Leonard M. Bechtel, Chief Financial Officer and Director of Administration, Career SES, Chairperson, (New Member).

Bernadette A. McGuire-Rivera, Associate Administrator for Telecommunications and Information Applications, Career SES.

Karl B. Nebbia, Associate Administrator for Spectrum Management, Career SES.

Alan W. Vincent, Associate Administrator for Telecom Sciences and Director Institute for Telecom Sciences, Career SES.

Dated: October 19, 2011.
Susan Boggs,
Director, Office of Staffing, Recruitment and Classification, Department of Commerce Human Resources Operations Center.

[FR Doc. 2011-27486 Filed 10-24-11; 8:45 am]

BILLING CODE 3510-25-P